DEPARTMENT OF COMMERCE

National Institute of Standards and Technology

[Docket No. 060616170-6170-01]

Privacy Act of 1974: System of Records

ACTION: Notice of Amendment of Privacy Act System of Records: COMMERCE/NIST-5, Nuclear Reactor Operator Licensees File

SUMMARY: In accordance with the Privacy Act of 1974, as amended, 5 U.S.C. 552a(e)(4) and (11), the Department of Commerce is issuing notice of intent to amend the system of records under COMMERCE/NIST-5, Nuclear Reactor Operator Licensees File to include the name change of the National Bureau of Standards (NBS) to the National Institute of Standards and Technology (NIST); update internal organizational unit names, contacts, locations; and reflect more current system descriptions.

DATES: To be considered, written comments must be submitted on or before July 2, 2007. Unless comments are received, the amendments to the system of records will become effective as proposed on the date of publication of a subsequent notice in the Federal Register.

FOR FURTHER INFORMATION CONTACT: Patrick Gallagher, NIST Center for Neutron Research, National Institute of Standards and Technology, Gaithersburg, MD 20899-3560, 301-975-6210.

SUPPLEMENTARY INFORMATION: In 1989 the name of the National Bureau of Standards (NBS) was changed to the National Institute of Standards and Technology (NIST). This system is updated to reflect that name change, along with updating internal organizational unit names; contacts; locations; and system descriptions.

DEPARTMENT OF COMMERCE/NIST-5

System Name:

Nuclear Reactor Operator Licensees File.

Security Classification:

None.

System Location:

NIST Center for Neutron Research, Materials Science and Engineering Laboratory, National Institute of Standards and Technology, Gaithersburg, MD 20899-8560.

Categories of Individuals Covered by the System:

NIST employees who are licensed as Nuclear Reactor Operators, those whose applications for licenses are being processed, and those whose licenses have expired.

Categories of Records in the System:

These records contain information relating to the application for a Nuclear Reactor Operator's license, certification of competency, certification of medical history, results of medical examination and related correspondence, reactor operator examination and examination results, records of training, and license or denial letter.

Authority for Maintenance of the System:

Section 107, 161(i), Atomic Energy Act of 1954 as amended; 42 U.S.C. 2137, and 2021(i); 15 U.S.C. 272.

Purpose(s):

The information contained in the system is required because it must be available for disclosure to the Nuclear Regulatory Commission upon request for the purpose of conducting audits of the qualifications of reactor operators.

Routine Uses of Records Maintained in the System, Including Categories of Users and the Purposes of Such Uses:

1. Information in these records may be disclosed to the Nuclear Regulatory Commission for the purpose of conducting audits of the qualifications of reactor operators.

2. In the event that a record in this system of records indicates a violation or potential violation of law or contract, whether civil, criminal, or regulatory in nature, and whether arising by general statute or particular program statute or contract, or rule, regulation, or order issued pursuant thereto, or the necessity to protect an interest of the Department, the relevant records in the system of records may be referred as a routine use, to the appropriate agency, whether federal, state, local, or foreign, charged with the responsibility of investigating or prosecuting such violation or charged with enforcing or implementing the statute or contract, rule, regulation, or order issued pursuant thereto, or protecting the interest of the Department.

3. A record from this system of records may be disclosed to a federal, state, or local agency maintaining civil, criminal, or other relevant enforcement information or other pertinent information, such as current licenses, if necessary to obtain information relevant to a Department decision concerning the assignment, hiring, or retention of an individual, the issuance of a security clearance, the letting of a contract, or the issuance of a license, grant, or other benefit.

4. A record from this system of records may be disclosed to a federal, state, local, or international agency, in response to its request, in connection with the assignment, hiring, or retention of an individual, the issuance of a security clearance, the reporting of an investigation of an individual, the letting of a contract, or the issuance of a license, grant, or other benefit by the requesting agency, to the extent that the information is relevant and necessary to the requesting agency's decision on the matter.

5. A record from this system of records may be disclosed in the course of presenting evidence to a court, magistrate, or administrative tribunal, including disclosures to opposing counsel in the course of settlement negotiations.

6. A record in this system of records may be disclosed to a Member of Congress submitting a request involving an individual when the individual has requested assistance from the Member with respect to the subject matter of the record.

7. A record in this system of records may disclosed to a contractor of the Department having need for the information in the performance of the contract, but not operating a system or records within the meaning of 5 U.S.C. 552a(m).

8. A record in this system may be transferred to the Office of Personnel Management: for personnel research purposes; as a data source for management information; for the production of summary descriptive statistics and analytical studies in support of the function for which the records are collected and maintained; or for related manpower studies.

9. A record from this system of records may be disclosed to the Administrator, General Services, or designee, during an inspection of records conducted by GSA as part of that agency's responsibility to recommend improvements in records management practices and programs under authority of 44 U.S.C. 2904 and 2906. Such disclosure shall be made in accordance with the GSA regulations governing inspection of records for this purpose, and any other relevant (i.e., GSA or Commerce) directive. Such disclosure shall not be used to make determinations about individuals.

10. A record in this system of records may be disclosed to the Department of Justice in connection with determining whether disclosure thereof is required by the Freedom of Information Act (5 U.S.C. 552).

Policies and Practices for Storing, Retrieving, Accessing, Retaining, and Disposing of Records in the System:

Storage:

Paper records in file folders.

Retrievability:

Filed alphabetically by name.

Safeguards:

Records are maintained in a locked filing cabinet in a limited-access building.

Retention and Disposal:

All records relating to an individual's license and documentation for license including requalification requirements will be retained as long as is required by the Reactor License and will thereafter either be turned over to the individual concerned or destroyed.

System Manager(s) and Address:

Director, NIST Center for Neutron Research, Materials Science and Engineering Laboratory, National Institute of Standards and Technology, Gaithersburg, MD 20899-8560.

Notification Procedure:

Information may be obtained from: Chief, Management and Organization Division, National Institute of Standards and Technology, Gaithersburg, MD 20899-3220. Requester should provide name and additional factual data, as appropriate, pursuant to the inquiry provisions of the Department's rules, which appear in 15 CFR part 4.

Records Access Procedures:

Requests from individuals should be addressed to: Same address as stated in the Notification Section above.

Contesting Records Procedures:

The Department's rules for access, for contesting contents, and appealing initial determinations by the individual concerned appear in 15 CFR part 4. Same address as stated in the Notification Section above.

Records Source Categories:

Subject individual, licensed physician, employees of the NIST Center for Neutron Research, and those authorized by the subject individual to supply information.

Exemptions Claimed for the System:

None.

Dated: May 24, 2007.
Brenda Dolan,
Department of Commerce, Freedom of Information/Privacy Act Officer.

[FR Doc. E7-10580 Filed 5-31-07; 8:45 am]

BILLING CODE 3510-13-P